DEPARTMENT OF THE INTERIOR

Bureau of Land Management

[LLWYR0500.L16100000.DP0000. LXSS047K0000]

Notice of Availability of the Draft Resource Management Plan and Associated Environmental Impact Statement for the Lander Resource Management Plan Revision Project, Lander Field Office, Wyoming

AGENCY: Bureau of Land Management, Interior.

ACTION: Notice of Availability.

SUMMARY: In accordance with the National Environmental Policy Act (NEPA) of 1969, as amended, and the Federal Land Policy and Management Act (FLPMA) of 1976, as amended, the Bureau of Land Management (BLM) has prepared a Draft Resource Management Plan (RMP) and Draft Environmental Impact Statement (EIS) for the Lander Field Office and by this notice is announcing the opening of a 90-day comment period.

DATES: To ensure that comments will be considered, the BLM must receive written comments on the Draft RMP/EIS within 90 days following the date the Environmental Protection Agency publishes its Notice of Availability (NOA) of the Draft RMP/EIS in the Federal Register. The BLM will announce future meetings or hearings and any other public participation activities at least 15 days in advance through public notices, media releases, and/or the project Web site: http://www.blm.gov/wy/st/en/programs/Planning/rmps/lander.html.

ADDRESSES: You may submit comments related to the Lander Resource Management Plan Revision Project by any of the following methods:

Web site: http://www.blm.gov/wy/st/en/programs/Planning/rmps/lander.html.

E-mail: LRMP_WYMail@blm.gov.

Mail: Lander Field Office, Attn: RMP Project Manager, 1335 Main Street, Lander, Wyoming 82520.

Copies of the Draft RMP/EIS are available at the following locations:

• Bureau of Land Management, Wyoming State Office, 5353 Yellowstone Road, Cheyenne, Wyoming 82003.

• Bureau of Land Management, Lander Field Office, 1335 Main Street, Lander, Wyoming 82520.

• Bureau of Land Management, Wind River/Bighorn Basin District Office, 101 South 23rd Street, Worland, Wyoming 82401.

FOR FURTHER INFORMATION CONTACT: Kristin Yannone, RMP Project Manager, telephone 307-332-8400; address 1335 Main Street, Lander, Wyoming 82520; e-mail kristin_yannone@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The planning area for the Project includes lands within the BLM Lander Field Office's administrative boundaries, including all of Fremont County and some of Teton, Sweetwater, Hot Springs, and Natrona counties in Wyoming. The planning area includes all lands, regardless of jurisdiction, totaling approximately 6.6 million acres; however, the BLM will only make decisions on lands that fall under the BLM's jurisdiction. BLM-administered surface, totaling approximately 2.4 million acres, and Federal mineral estate, totaling 2.8 million acres, make up the decision area. The revised RMP will replace the 1987 Lander RMP. The Draft RMP/EIS includes a series of management actions, within four management alternatives, designed to address management challenges and issues raised during scoping. These include, but are not limited to, mineral development, livestock grazing, air quality, special management areas including areas of critical environmental concern (ACEC), wildlife habitats including that of the Greater sage-grouse, and management of the settings of the congressionally designated trails. The four alternatives are:

• Alternative A: Continues existing management practices (no action alternative);

• Alternative B: Emphasizes conservation of natural and cultural resources while providing for compatible development and use;

• Alternative C: Emphasizes resource development and use while protecting natural and cultural resources; and

• Alternative D: Provides development opportunities while protecting sensitive resources (preferred alternative).

The preferred alternative has been identified as described in 40 CFR 1502.14(e). However, identification of a preferred alternative does not represent the final agency decision. The proposed RMP and final EIS will reflect changes or adjustments based on information received during public comment, new information, or changes in BLM policies or priorities. The proposed RMP may include portions of any analyzed alternatives. For this reason, the BLM encourages comments on all alternatives and management actions described in the Draft RMP/EIS.

In accordance with 43 CFR 1610.7-2(b), this NOA announces a concurrent public comment period on proposed ACECs. Alternative B proposes 15 ACECs, the most in any alternative, of which 9 were designated as ACECs in the 1987 Lander RMP. Alternative B would manage all ACECs as closed to all mineral activity including solid and fluid mineral leasing and would pursue withdrawal of all ACECs from locatable mineral entry. Alternative C would designate no ACECs. The management restrictions vary by alternative. The ACECs and the most restrictive management are:

• Lander Slope, 25,065 acres, designated in the 1987 RMP. Value(s) of concern—paleontological, visual resources, and wildlife habitat. Proposed use limitation(s): right-of-way (ROW) exclusion area, closed to all mineral leases, closed to geophysical exploration, closed to mineral material disposals and related exploration and development activities, closed to pursue withdrawal from locatable mineral entry, motorized vehicle use limited to designated roads and trails, and a small area closed to motorized and mechanized travel for recreational use or with seasonal restrictions.

• Red Canyon, 15,109 acres designated in the 1987 RMP. Value(s) of concern—visual resources and wildlife habitat. Proposed use limitation(s): right-of-way (ROW) exclusion area, closed to all mineral leases, closed to geophysical exploration, closed to mineral material disposals and related exploration and development activities, closed to pursue withdrawal from locatable mineral entry, motorized vehicle use limited to designated roads and trails, and a small area closed to motorized and mechanized travel for recreational use or with seasonal restrictions.

• Dubois Badlands, 4,903 acres designated in the 1987 RMP. Value(s) of concern—visual resources and fragile soils. Proposed use limitation(s): right-of-way (ROW) exclusion area, closed to all mineral leases, closed to geophysical exploration, closed to mineral material disposals and related exploration and development activities, closed in order to pursue withdrawal from locatable mineral entry, and motorized vehicle use limited to designated roads and trails.

• Whiskey Mountain, 8,776 acres designated in the 1987 RMP. Value(s) of concern—bighorn sheep habitat. Proposed use limitation(s): right-of-way (ROW) exclusion area, closed to mineral leases, closed to geophysical exploration, closed to mineral material disposals and related exploration and development activities, and motorized vehicle use limited to designated roads and trails with seasonal closures. Pursue extending locatable mineral withdrawals for a 20-year period.

• East Fork, 4,431 acres designated in the 1987 RMP with a proposed expansion of an additional 3,313 acres. Value(s) of concern—elk habitat. Proposed use limitation(s): ROW exclusion area, closed to mineral leases, closed to geophysical exploration, closed to mineral material disposals and related exploration and development activities, and motorized vehicle use limited to designated roads and trails with seasonal closures. Pursue extending locatable mineral withdrawals for a 20-year period.

• Beaver Rim, 6,421 acres designated in the 1987 RMP with a proposed expansion of an additional 14,111 acres. Value(s) of concern—geologic visual resources, Native American concerns, unique plant communities, and raptor nesting and habitat areas. Proposed use limitation(s): ROW exclusion area, closed to mineral leases, closed to geophysical exploration, closed to pursue withdrawal from locatable mineral entry, closed to mineral material disposals and related exploration and development activities, and motorized vehicle use limited to designated roads and trails.

• Green Mountain, 14,612 acres designated in the 1987 RMP with a proposed expansion of an additional 10,248 acres. Value(s) of concern—habitat for a resident elk population. Proposed use limitation(s): ROW exclusion area, closed to mineral leases, closed to geophysical exploration, closed to mineral material disposals and related exploration and development activities, closed to pursue withdrawal from locatable mineral entry, and motorized vehicle use limited to designated roads and trails with seasonal closures.

• National Historic Trails, 27,728 acres designated in the 1987 RMP. Value(s) of concern—the immediate setting of the national historic trails. Proposed use limitation(s): Right-of-way (ROW) exclusion area, closed to all mineral leases, closed to geophysical exploration, closed to mineral material disposals and related exploration and development activities, closed to pursue withdrawal from locatable mineral entry, and motorized vehicle use limited to designated roads and trails.

• South Pass Historical Mining Area, 12,576 acres designated in the 1987 RMP. Value(s) of concern—historical and visual resources associated with historic mining and its setting. Proposed use limitation(s): right-of-way (ROW) exclusion area, closed to all mineral leases, closed to geophysical exploration, closed to mineral material disposals and related exploration and development activities, closed to pursue withdrawal from locatable mineral entry, and motorized vehicle use limited to designated roads and trails.

• Continental Divide Scenic Trail, not designated in 1987 RMP. Alternative B proposes 259,380 acres. Value(s) of concern—recreation and visual resources associated with the congressionally designated national scenic trail. Proposed use limitation(s): right-of-way (ROW) exclusion area, closed to all mineral leases, closed to geophysical exploration, closed to mineral material disposals and related exploration and development activities, closed to pursue withdrawal from locatable mineral entry, and motorized vehicle use limited to designated roads and trails in a buffer along the Trail.

• Cedar Ridge, not designated in 1987 RMP. Alternative B proposes 7,039 acres. Value(s) of concern—paleontological resources and Native American religious and sacred sites and their settings. Proposed use limitation(s): right-of-way (ROW) exclusion area, closed to all mineral leases, closed to geophysical exploration, closed to mineral material disposals and related exploration and development activities, closed to pursue withdrawal from locatable mineral entry, and motorized vehicle use limited to designated roads and trails.

• Castle Gardens, not designated in 1987 RMP. Alternative B proposes 8,469 acres. Value(s) of concern—paleontological resources and Native American religious and sacred sites and their settings. Proposed use limitation(s): right-of-way (ROW) exclusion area, closed to all mineral leases, closed to geophysical exploration, closed to mineral material disposals and related exploration and development activities, closed to pursue withdrawal from locatable mineral entry, and motorized vehicle use limited to designated roads and trails.

• Sweetwater Rocks, not designated in the 1987 RMP. Alternative B proposes 152,347 acres. Value(s) of concern—geologic and visual resources and recreational values. Proposed use limitation(s): right-of-way (ROW) exclusion area, closed to all mineral leases, closed to geophysical exploration, closed to mineral material disposals and related exploration and development activities, closed to pursue withdrawal from locatable mineral entry, and motorized vehicle use limited to designated roads and trails.

• Regional Historic Trails and Early Highways, not designated in the 1987 RMP. Alternative B proposes 89,016 acres. Value(s) of concern—historical/cultural resources and their settings. Proposed use limitation(s): right-of-way (ROW) exclusion area, closed to all mineral leases, closed to geophysical exploration, closed to mineral material disposals and related exploration and development activities, closed to pursue withdrawal from locatable mineral entry, and motorized vehicle use limited to designated roads and trails in a buffer around the trails.

• Government Draw/Upper Sweetwater sage-grouse, not designated by the 1987 RMP. Alternative B proposes 1,246,791 acres. Value(s) of concern—Greater sage-grouse habitat. Proposed use limitation(s): right-of-way (ROW) exclusion area, closed to all mineral leases, closed to geophysical exploration, closed to mineral material disposals and related exploration and development activities, closed to pursue withdrawal from locatable mineral entry, and motorized vehicle use limited to designated roads and trails.

Alternative A proposes to maintain the nine existing ACECs. Alternative B proposes to establish all of the ACECs listed above and to pursue withdrawals from locatable mineral entry for 1,396,844 acres. Alternative C proposes to eliminate all ACECs and manage the areas with standard stipulations (such as a 1\2;-mile buffer on each side of the national historic trails).

Alternative D, the preferred alternative, proposes ACEC designation for the following ACECs that are the same as designated in the 1987 RMP: Lander Slope (25,065 acres), Red Canyon (15,109 acres), Whiskey Mountain (8,776 acres), and Beaver Rim (6,421 acres). The following ACECs were designated in the 1987 RMP but expanded in the preferred alternative: East Fork (4,431 acres plus 6,777 acres—including acres that were transferred from the Dubois Badlands ACEC designated in 1987 but not in the preferred alternative), and Green Mountain (14,612 acres plus an additional 6,777 acres). The preferred alternative modifies the 1987 designated South Pass Historic Mining Area to include additional lands associated with the congressionally designated trails for a total of 124,229 acres. A portion of the Government Draw/Upper Sweetwater sage-grouse ACEC is identified for management as a reference and education area containing the Twin Creek ACEC of 36,302 acres. The preferred alternative did not adopt the following ACECs proposed under Alternative B: Cedar Ridge, Castle Gardens, Sweetwater Rocks, Continental Divide National Scenic Trail, Regional Historic Trails and Early Highways, and Government Draw/Upper Sweetwater sage-grouse. 13,378 acres in ACECs are closed to pursue withdrawal from locatable mineral entry.

The BLM initiated a wild and scenic rivers (WSR) review of all BLM-administered public lands along waterways within the Lander Field Office. The BLM requests the public to submit information regarding the suitability of eligible river segments for inclusion in the National Wild and Scenic Rivers System. The BLM will use comments submitted during the announced comment period to gather additional data to determine suitability for inclusion into the National Wild and Scenic Rivers System.

You may submit comments in writing to the BLM at any public meeting, or you may submit them to the BLM using one of the methods listed in the ADDRESSES section above. In order to reduce the use of paper and control costs, the BLM strongly encourages the public to submit comments electronically at the project Web site or via e-mail. Only comments submitted using the methods described in the ADDRESSES section above will be accepted. Comments submitted must include the commenter's name and street address. Whenever possible, please include reference to either the page or section in the Draft RMP/EIS to which the comment applies. Please note that public comments and information submitted including names, street addresses and e-mail addresses of persons who submit comments will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, are available for public inspection in their entirety.

Authority: 40 CFR 1506.6, 1506.10; 43 CFR 1610.2, 1610.7-2 and 8350.

Donald A. Simpson,
State Director.

[FR Doc. 2011-22946 Filed 9-7-11; 8:45 am]

BILLING CODE 4310-22-P